DEPARTMENT OF THE INTERIOR

Fish and Wildlife Service

DEPARTMENT OF COMMERCE

National Oceanic and Atmospheric Administration

[RTID 0648-XA804]

Marianas Trench Marine National Monument; Monument Management Plan

AGENCY: Fish and Wildlife Service (FWS), Interior; National Oceanic and Atmospheric Administration (NOAA), Commerce.

ACTION: Notice of availability; request for comments.

SUMMARY: The FWS and NOAA announce the availability of a draft monument management plan (MMP) for the Marianas Trench Marine National Monument (Monument). The draft MMP describes proposed goals, objectives, and strategies for managing the Monument over a 15-year period.

DATES: We must receive comments by May 25, 2021.

ADDRESSES: You may submit comments on this document, identified by NOAA-NMFS-2021-0003, by either of the following methods:

• Electronic Submission: Submit all electronic public comments via the Federal e-Rulemaking Portal. Go to https://www.regulations.gov/docket/NOAA-NMFS-2021-0003, click the “Comment Now!” icon, complete the required fields, and enter or attach your comments.

• Mail: Send written comments to Superintendent, Marianas Trench Marine National Monument, P.O. Box 8134, MOU-3, Dededo, GU 96912.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The draft MMP includes an environmental assessment (EA) of the potential impacts of the MMP on the human environment. You may review the draft MMP and EA at www.regulations.gov.

FOR FURTHER INFORMATION CONTACT: Tammy Summers, FWS, (671) 355-5096, or Heidi Hirsh, NOAA, (808) 725-5016.

SUPPLEMENTARY INFORMATION: The Monument was established by Presidential Proclamation 8335 (January 12, 2009, 74 FR 1557). The Secretaries of the Interior and Commerce share responsibility for managing the Monument, and the Proclamation requires the Secretaries of the Interior and Commerce to prepare management plans and promulgate implementing regulations that address specific actions necessary for the proper care and management of the Monument.

This draft MMP includes elements similar to a National Wildlife Refuge System Comprehensive Conservation Plan (CCP), and we are conducting the planning process for those elements in a manner similar to the CCP planning and public involvement process. The National Wildlife Refuge System Administration Act of 1966 (Refuge Administration Act, 16 U.S.C. 668dd-668ee), as amended by the National Wildlife Refuge System Improvement Act of 1997, requires the FWS to develop a CCP for each national wildlife refuge. This draft MMP would incorporate CCP requirements and would define each agency's management roles and responsibilities.

The draft MMP lays out the goals, objectives, and proposed management activities for the next 15 years, consistent with sound principles of fish and wildlife management, conservation, legal mandates, and consistent with FWS and NOAA policies. The draft MMP includes an environmental assessment to evaluate the potential environmental impacts of implementing the MMP. The FWS and NOAA would review and update the MMP at least every 15 years, in accordance with the Refuge Administration Act.

More information about the Monument's history, wildlife, and habitats is available in a Notice of Intent published on April 5, 2011 (76 FR 18773).

The FWS and NOAA seek comments on the draft MMP and EA. We will consider comments received when deciding whether to approve or modify the MMP.

Dated: February 18, 2021.
Jennifer M. Wallace,
Acting Director, Office of Sustainable Fisheries, National Marine Fisheries Service.

[FR Doc. 2021-03642 Filed 2-23-21; 8:45 am]

BILLING CODE 3510-22-P